NUCLEAR REGULATORY COMMISSION

Sunshine Act Meeting

DATE: Weeks of September 4, 11, 18, 25, October 2, 9, 2006.

PLACE: Commissioners' Conference Room, 11555 Rockville Pike, Rockville, Maryland.

STATUS: Public and Closed.

MATTERS TO BE CONSIDERED:

Week of September 4, 2006

Wednesday, September 6, 2006

1:50 p.m.

Affirmation Session (Public) (Tentative).

a. Pacific Gas & Elec. Co. (Diablo Canyon ISFSI), Docket No. 72-26-ISFSI “Motion by San Luis Obispo Mothers for Peace, Sierra Club, and Peg Pinard for Declaratory and Injunctive Relief with respect to Diablo Canyon ISFSI”. (Tentative.)

b. AmerGen Energy Company, LLC (License Renewal for Oyster Creek Nuclear Generating Station) Docket No. 50-0219, Legal challenges to LBP-06-07 and LBP-06-11. (Tentative.)

c. Pa'ina Hawaii, LLC, LBP-06-4, 63 NRC 99 (2006) and LBP-06-12, 63 NRC 409 (2006). (Tentative.)

Week of September 11, 2006—Tentative

Monday, September 11, 2006

9:30 a.m.

Discussion of Security Issues (Closed—Ex. 1).

1:30 p.m.

Discussion of Security Issues (Closed—Ex. 1 & 3).

Tuesday, September 12, 2006

9:30 a.m.

Meeting with Organization of Agreement States (OAS) and conference of Radiation Control Program Directors (CRCPD) (Public Meeting) (Contact: Shawn Smith, 301-415-2620.)

This meeting will be webcast live at the Web address— http://www.nrc.gov.

1 p.m.

(Discussion of Security Issues (Closed—Ex. 1).

Week of September 18, 2006—Tentative

There are no meetings scheduled for the Week of September 18, 2006.

Week of September 25, 2006—Tentative

There are no meetings scheduled for the Week of September 25, 2006.

Week of October 2, 2006—Tentative

There are no meetings scheduled for the Week of October 2, 2006.

Week of October 9, 2006—Tentative

There are no meetings scheduled for the Week of October 9, 2006.

* * * * *

*The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 31, 2006.
R. Michelle Schroll,
Office of the Secretary

[FR Doc. 06-7479 Filed 9-1-06; 9:46am]

BILLING CODE 7590-01-M